DEPARTMENT OF HEALTH AND HUMAN SERVICES

Office of Global Affairs: Stakeholder Listening Session in Preparation for the 69th World Health Assembly

Time and date: May 6th, 2016, 10:30 a.m.-12:00 Noon EST.

Place: Hubert H. Humphrey Building, Room 505A, 200 Independence Ave. SW., Washington, District of Columbia 20201.

Status: Open, but requiring RSVP to OGA.RSVP@hhs.gov.

Purpose: The U.S. Department of Health and Human Services (HHS)—charged with leading the U.S. delegation to the 69th World Health Assembly—will hold an informal Stakeholder Listening Session on Friday, May 6, 10:30 a.m.-12:00 noon, in Conference Room 505A of the Hubert H. Humphrey Building, 200 Independence Ave. S.W., Washington, DC 20201.

The Stakeholder Listening Session will help the HHS Office of Global Affairs prepare the U.S. delegation for the World Health Assembly by taking full advantage of the knowledge, ideas, feedback, and suggestions from all communities interested in and affected by agenda items to be discussed at the 69th World Health Assembly. Your input will contribute to U.S. positions as we negotiate with our international colleagues at the World Health Assembly these important health topics.

The listening session will be organized by agenda item, and participation is welcome from all individuals, particularly members of stakeholder communities, including:

• Public health and advocacy groups;

• State, local, and Tribal groups;

• Private industry;

• Minority health organizations; and

• Academic and scientific organizations.

All agenda items to be discussed at the 69th World Health Assembly can be found at this Web site: http://apps.who.int/gb/ebwha/pdf_files/WHA69/A69_1-en.pdf.

RSVP: Due to security restrictions for entry into the HHS Hubert H. Humphrey Building, we will need to receive RSVPs for this event. Please send your full name and organization to OGA.RSVP@hhs.gov. If you are not a U.S. citizen, please note this in the subject line of your RSVP, and our office will contact you to gain additional biographical information for your clearance. Please RSVP no later than Wednesday, April 27, 2016.

Written comments are welcome and encouraged, even if you are planning on attending in person. Please send these to the email address: OGA.RSVP@hhs.gov.

We look forward to hearing your comments relative to the 69th World Health Assembly agenda items.

Dated: March 14, 2016.
Jimmy Kolker,
Assistant Secretary for Global Affairs.

[FR Doc. 2016-08287 Filed 4-11-16; 8:45 am]

BILLING CODE 4150-38-P